DEPARTMENT OF LABOR

Office of the Secretary

Research on Forced Labor in the Production of Goods in Selected Countries

AGENCY: Bureau of International Labor Affairs, U.S. Department of Labor.

ACTION: New. Notice of Availability of Funds and Solicitation for Cooperative Agreement Applications (SGA). The full announcement is posted on http://www.grants.gov and DOL/ILAB's Web site at http://www.dol.gov/ILAB/grants/main.htm.

Funding Opportunity Number: SGA 08-07

Catalog of Federal Domestic Assistance (CFDA) Number: Not applicable.

SUMMARY: The U.S. Department of Labor, Bureau of International Labor Affairs (ILAB), will award up to USD 1.25 million over three years through a cooperative agreement to a qualified organization and/or Association to carry out research in eight (8) countries on forced labor in the production of goods, and to develop strategies to assist governments, industries, and/or third parties in taking action to address these problems. Four (4) countries are required for research, and applicants must choose four (4) additional countries. The solicitation provides a list of eleven (11) countries from which these four (4) additional countries should be chosen, but applicants may propose four (4) alternate countries and provide justifications for these choices. Projects funded under SGA 08-07 will involve gathering and analyzing data to answer the research questions outlined in the solicitation. The research will aim to complement and expand upon existing research on the use of forced labor in the production of goods.

Application and Submission Information: The full-text version of SGA 08-07 is available on http://www.grants.gov and USDOL/ILAB's Web site at http://www.dol.gov/ILAB/grants/main.htm. All applications for funding under SGA 08-07 must be submitted electronically to USDOL via http://www.grants.gov. Any application sent by mail or other delivery services, e-mail, telegram, or facsimile (FAX) will not be accepted.

Key Dates: The deadline for submission of applications is August 8, 2008. All technical questions regarding SGA 08-07 must be sent by July 18, 2008 in order to receive a response. USDOL will publish its responses to these technical questions on SGA 08-07 by July 28, 2008. Any questions regarding the electronic assembly of application packages must be sent at least one week prior to the application deadline. USDOL will make all cooperative agreement awards on or before September 30, 2008.

Agency Contacts: All technical questions regarding SGA 08-07 should be sent to Ms. Lisa Harvey, Grant Officer, U.S. Department of Labor's Office of Procurement Services, via e-mail (e-mail address: harvey.lisa@dol.gov; telephone: (202) 693-4592—this is not a toll-free-number).

Background Information: ILAB conducts research and commissions studies to inform and formulate international economic, trade and labor policies in collaboration with other U.S. government agencies, and provides technical assistance to countries abroad in support of foreign labor policy objectives. OCFT, formerly the International Child Labor Program (ICLP), was created at the request of Congress in 1993 to specifically research and report on child labor around the world. More recently Congress, through the Trafficking Victims Protection Reauthorization Act (TVPRA) of 2005, directed ILAB to include, among its responsibilities, monitoring and combating forced labor. 22 U.S.C. 7112(b). Today, OCFT develops policy, conducts research, and implements technical cooperation projects to eradicate exploitive child labor, trafficking in persons, and forced labor worldwide.

Since 1994, ILAB has published over 20 congressionally mandated reports on international child labor. In addition to its own research, USDOL has funded projects aimed at building the knowledge base on child labor, forced labor and human trafficking world wide for the purposes of improving program planning, policy design and impact measurement. Research projects have included the collection of child labor data through national surveys, rapid assessments, baseline studies; special and thematic studies; comprehensive literature reviews on forced labor, child labor and human trafficking; and the development of creative and innovative methodologies to measure child labor, forced and bonded labor, and human trafficking.

Signed at Washington, DC, this 1st day of July 2008.
Lisa Harvey,
Grant Officer.

[FR Doc. E8-15398 Filed 7-7-08; 8:45 am]

BILLING CODE 4510-28-P